DEPARTMENT OF THE INTERIOR

Geological Survey

[GX15EG50DW73200]

Agency Information Collection Activities: Request for Comments on The National Map Corps

AGENCY: U.S. Geological Survey (USGS), Interior.

ACTION: Notice of a new information collection, The National Map Corps.

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments on this ICR are considered, we must receive them on or before January 20, 2015.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028—NEW The National Map Corps'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028—NEW: The National Map Corps' in all correspondence.

FOR FURTHER INFORMATION CONTACT: Elizabeth McCartney at (573) 308-3696 or emccartney@usgs.gov. You may also find information about this ICR at www.reginfo.gov.

SUPPLEMENTARY INFORMATION:

I. Abstract

The U.S. Geological Survey (USGS) has historically sponsored volunteer data collection projects to enhance its topographic paper and digital map products, but these activities were suspended in 2006 due to budget concerns. Since then, new internet technologies have made it easy for citizens to georeference and share many different types of data via online mapping platforms and social networking sites. These data have been referred to as volunteered geographic information (VGI). As a result of these developments, the USGS has reinstated the volunteer data-collection program for The National Map (http://nationalmap.gov).

Using crowd-sourcing techniques, the USGS VGI project known as “The National Map Corps” encourages citizen volunteers to collect data about manmade structures in an effort to provide accurate and authoritative spatial map data for the USGS National Geospatial Program's web-based The National Map. Citizens collect and/or improve structures data by adding new features, removing obsolete points, and correcting existing data using a web-based mapping platform. Points edited become part of the National Structures Database, and include schools, hospitals, post offices, police stations and other important public buildings. Through their participation, volunteers are able to make significant contributions to the USGS's ability to provide the Nation with accurate mapping information.

We estimate that some users will require a longer session to become acquainted with the interface on their first session. This may be as long as one hour to create an account and review the guidance document. Thereafter, users should be able to make edits to the database in about ten minutes per item being updated.

II. Data

OMB Control Number: 1028—NEW.

Title: The National Map Corps.

Type of Request: Approval of new information collection.

Respondent Obligation: None (participation is voluntary).

Frequency of Collection: Occasional.

Description of Respondents: The general public.

Estimated Total Number of Annual Responses: We estimate that 1,000 people will participate in this volunteer initiative. If they make 75 updates to the Web site that would be 75,000 responses. Counting the updates and the initial sign up, that would be 76,000 responses.

Estimated Time per Response: We estimate that it will take no more than 60 minutes to create an account and join the community. Thereafter it should take no more than 10 minutes to edit a structure point on the Web page.

Estimated Annual Burden Hours: 13,500 hours.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On May 16, 2014 we published a Federal Register notice (79 FR 28536) announcing that we would submit this ICR to OMB for approval and soliciting comments. The comment period closed on July 17, 2014. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask the OMB in your comment to withhold your personal identifying information from public review, we cannot guarantee that it will be done.

Kari J. Craun,
Director, National Geospatial Technical Operations Center.

[FR Doc. 2014-29639 Filed 12-17-14; 8:45 am]

BILLING CODE 4311-AM-P